DEPARTMENT OF COMMERCE

Bureau of Export Administration

Materials Processing Equipment Technical Advisory Committee; Notice of Open Meeting

The Materials Processing Equipment Technical Advisory Committee will be held December 13, 2001, 9:00 a.m., in Room 3884 of the Herbert C. Hoover Building, 14th Street Between Pennsylvania and Constitution Avenues, NW, Washington, DC. The Committee advises the Office of the Assistant Secretary for Export Administration with respect to technical questions that affect the level of export controls applicable to materials processing and related technology.

Agenda

1. Opening remarks by the Chairman.

2. Presentation of papers or comments by the public.

3. Update on Bureau of Export Administration initiatives.

4. Update on the Wassenaar Arrangement with discussion on machine tool issues.

5. Status on post-shipment checks.

6. Status on specially designed entries to the Commerce Control List (CCL).

7. Status on Category 2 Matrix Guide for CCL users. The meeting will be open to the public and a limited number of seats will be available. Reservations are not accepted. To the extent that time permits, members of the public may present oral statements to the Committee. Written statements may be submitted at any time before or after the meeting. However, to facilitate distribution of public presentation materials to Committee members, the Committee suggests that presenters forward the public presentation materials two weeks prior to the meeting date to the following address: Ms. Lee Ann Carpenter, Advisory Committees MS: 3876, Bureau of Export Administration, U.S. Department of Commerce, Washington, DC 20230.

For further information or copies of the minutes, contact Lee Ann Carpenter at 202-482-2583.

Dated: November 20, 2001.
Lee Ann Carpenter,
Committee Liaison Officer.

[FR Doc. 01-29465 Filed 11-26-01; 8:45 am]

BILLING CODE 3510-JT-M